FEDERAL COMMUNICATIONS COMMISSION

Radio Broadcasting Services; AM or FM Proposals To Change the Community of License

AGENCY: Federal Communications Commission.

ACTION: Notice.

SUMMARY: The following applicants filed AM or FM proposals to change the community of license: ACE RADIO CORPORATION, Station KQLP, Facility ID 166074, BMPH-20080110ACB, From GALLUP, NM, To LEUPP, AZ; BRAZOS VALLEY COMMUNICATIONS, LTD., Station KBXT, Facility ID 57802, BPH-20080211ADI, From FRANKLIN, TX, To WIXON VALLEY, TX; BRAZOS VALLEY COMMUNICATIONS, LTD., Station KJXJ, Facility ID 72718, BPH-20080211ADK, From CAMERON, TX, To FRANKLIN, TX; COLLEGE CREEK MEDIA, LLC, Station KDVC, Facility ID 164124, BMPH-20080125AED, From DOVE CREEK, CO, To FRUITVALE, CO; GOOD KARMA BROADCASTING, L.L.C., Station WTLX, Facility ID 4477, BMPH-20080206ADJ, From COLUMBUS, WI, To MONONA, WI; HILL & GLOVER BROADCASTING, LLC, Station NEW, Facility ID 160235, BMP-20080118AAI, From SAVANNAH, GA, To THUNDERBOLT, GA; JAM COMMUNICATIONS, INC., Station WQHK-FM, Facility ID 29859, BPH-20080130AKG, From DECATUR, IN, To HUNTERTOWN, IN; JER LICENSES, LLC, Station NEW, Facility ID 170968, BMPH-20080111ADE, From ROSHOLT, WI, To ROTHSCHILD, WI; MUNBILLA FORT, Station KHLE, Facility ID 34948, BPH-20080114ABE, From BURNET, TX, To KEMPNER, TX; PROETTI, LORENZ E, Station NEW, Facility ID 166043, BMPH-20080201BPB, From DUBOIS, WY, To TETON VILLAGE, WY; RADIOACTIVE, LLC, Station WUPG, Facility ID 164243, BMPH-20070119AGV, From CRYSTAL FALLS, MI, To HARVEY, MI; SIGA BROADCASTING CORPORATION, Station KGBC, Facility ID 26002, BP-20080204AAA, From GALVESTON, TX, To DAYTON, TX; SKYWEST MEDIA L.L.C., Station KFMR, Facility ID 164261, BMPH-20080108AAB, From MARBLETON, WY, To BALLARD, UT; SPRING ARBOR UNIVERSITY, Station KTGG, Facility ID 61993, BP-20080124ACW, From SPRING ARBOR, MI, To OKEMOS, MI; TODD P. ROBINSON, INC., Station KZID, Facility ID 88203, BMPH-20080116AAX, From OROFINO, ID, To JULIAETTA, ID; WVJT, LLC, Station WXCF-FM, Facility ID 28340, BPH-20080114ACM, From CLIFTON FORGE, VA, To BIG ISLAND, VA.

DATES: Comments may be filed through May 5, 2008.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC, 20554, telephone 1-800-378-3160 or http://www.BCPIWEB.com.

James D. Bradshaw,
Federal Communications Commission., Deputy Chief, Audio Division, Media Bureau.

[FR Doc. E8-4284 Filed 3-5-08; 8:45 am]

BILLING CODE 6712-01-P